DEPARTMENT OF LABOR

Employment and Training Administration

[TA-W-72,972; TA-W-72,972A; TA-W-72,972B]

Amended Certification Regarding Eligibility to Apply for Worker Adjustment Assistance

TA-W-72,972

SUNGARD HIGHER EDUCATION, INC., DEVELOPMENT DIVISION INCLUDING ON-SITE LEASED WORKERS OF INTUITIVE INCLUDING OFF-SITE WORKERS ACROSS THE UNITED STATES, MALVERN, PENNSYLVANIA

TA-W-72,972A

SUNGARD HIGHER EDUCATION, INC., CONSULTING PRACTICES DIVISION INCLUDING ON-SITE LEASED WORKERS OF CICCARIELLO CONSULTING, INSTAMATION, INC., DYNAMIC METHODS, COLLEGIATE, CORNELIUS PROFESSIONAL SERVICES, CIBER, UC4 AND ENVISIONS INCLUDING OFF-SITE WORKERS ACROSS THE UNITED STATES, MALVERN, PENNSYLVANIA

TA-W-72,972B

SUNGARD HIGHER EDUCATION, INC., ACTIONLINE DIVISION INCLUDING ON-SITE LEASED WORKERS OF SICOM INCLUDING OFF-SITE WORKERS ACROSS THE UNITED STATES, MALVERN, PENNSYLVANIA

In accordance with Section 223 of the Trade Act of 1974, as amended (“Act”), 19 U.S.C. 2273, the Department of Labor issued a Certification of Eligibility to Apply for Worker Adjustment Assistance on March 3, 2010, applicable to workers of SunGard Higher Education, Inc., Malvern, Pennsylvania. The Department's notice of determination was published in the Federal Register on April 23, 2010 (75 FR 21361).

At the request of State agency, the Department reviewed the certification for workers of the subject firm. The workers are engaged in employment related to the supply of computer systems design and support services for colleges and universities.

New information shows that worker separations have occurred involving off-site employees of the Development Division, the Consulting Practices Division and the Actionline Division of SunGard Higher Education, Inc., Malvern, Pennsylvania. Employees working off-site across the United States are under the control of the subject firm and the supply of computer systems design and support services for the subject firm.

The intent of the Department's certification is to include all workers of the subject firm who were adversely affected by shift in services of employment related to the supply of computer systems design and support services to India.

Based on these findings, the Department is amending this certification to include employees of the subject firm's Malvern, Pennsylvania, facility working off-site across the United States.

The amended notice applicable to TA-W-72,972, TA-W-72972A, and TA-W-72,972B, are hereby issued as follows:

All workers of SunGard Higher Education, Inc., Development Division, including on-site leased workers of Intuitive, including off-site workers across the United States, Malvern, Pennsylvania (TA-W-72,972); SunGard Higher Education, Inc., Consulting Practices Division, including on-site leased workers of Ciccariello Consulting, Instamation, Inc., Dynamic Methods, Collegiate, Cornelius Professional Services, Ciber, UC4 and Envisions, including off-site workers across the United States, Malvern, Pennsylvania (TA-W-72,972A); SunGard Higher Education, Inc., Actionline Division, including on-site leased workers of SICOM, including off-site workers across the United States, Malvern, Pennsylvania (TA-W-72,972B) who became totally or partially separated from employment on or after November 25, 2008, through March 3, 2012, and all workers in the group threatened with total or partial separation from employment on the date of certification through two years from the date of certification, are eligible to apply for adjustment assistance under Chapter 2 of Title II of the Trade Act of 1974, as amended.

Signed in Washington, DC, this 24th day of January, 2011.
Elliott S. Kushner,
Certifying Officer, Office of Trade Adjustment Assistance.

[FR Doc. 2011-2250 Filed 2-1-11; 8:45 am]

BILLING CODE 4510-FN-P